DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of additional persons whose property and interests in property have been blocked pursuant to the Foreign Narcotics Kingpin Designation Act (21 U.S.C. 1901-1908, 8 U.S.C. 1182) of December 3, 1999. In addition, OFAC is publishing a change to the listing of two individuals previously designated pursuant to the Foreign Narcotics Kingpin Designation Act.

DATES: The designations by OFAC of additional persons identified in this notice whose property and interests in property have been blocked pursuant to section 804(b) of the Kingpin Act became effective on September 28, 2006. In addition, the change to the listing of two individuals previously designated pursuant to section 804(b) of the Kingpin Act became effective on September 28, 2006.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (www.treas.gov/ofac) or via facsimile through a 24-hour fax-on demand service, tel.: (202) 622-0077.

Background

The Foreign Narcotics Kingpin Designation Act (“Kingpin Act”) became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, and the Secretary of State, who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 28, 2006, OFAC designated five additional entities and fifteen additional individuals whose property and interests in property are blocked pursuant to section 804(b) of the Foreign Narcotics Kingpin Designation Act.

The list of additional designees follows:

Entities

1. PLAYA MAR S.A. DE C.V., Paseo De Los Heroes, Colonia Rio Tijuana 2110, Tijuana, Baja California, Mexico; Entre Via Rapida y Jose Clemente Orozco, Tijuana, Baja California, Mexico; Blvd. Agua Caliente 10440, Colonia Aviacion 22420, Tijuana, Baja California, Mexico; R.F.C. # PMA-910805 (Mexico) [SDNTK]

2. INMOBILIARIA ESPARTA S.A. DE C.V., Avenida Negrete 220 Local 2B, Colonia Zona Central, Tijuana, Baja California, Mexico; R.F.C. # IES-870805 (Mexico) [SDNTK]

3. INMOBILIARIA LA PROVINCIA S.A. DE C.V., Cuauhtemoc 6046 3 Libertad,Tijuana, Baja California, Mexico; R.F.C. # IPR-931014 (Mexico) [SDNTK]

4. INMOBILIARIA ESTADO 29 S.A. DE C.V., Entre Juan Sarabia y Plutarco Elias C., Tijuana, Baja California, Mexico; Ocampo 1860 4, Colonia Zona Central, Tijuana, Baja California, Mexico; R.F.C. # IEV-950628 (Mexico) [SDNTK]

5. INMOBILIARIA TIJUANA COSTA S.A. DE C.V., Agua Caliente 10440 9, Colonia Aviacion, Tijuana, Baja California, Mexico; Entre Abelardo L. Rodriguez y Avenida Del Rio, Tijuana, Baja California, Mexico; R.F.C. # ITC-910503 (Mexico) [SDNTK]

Individuals

1. HERNANDEZ SOMERO, Urbano, Avenida Manuela Herrera 592, Colonia Rio Reforma CP 22000, Tijuana, Baja California, Mexico; C. Mision de Mulege 2993, Colonia Zona Urbana Rio Tijuana, Tijuana, Baja California, Mexico; Avenida Manuela Herrera 590, Colonia Rio Reforma CP 22000, Tijuana, Baja California, Mexico; Avenida Del Bosque 4640, Colonia Jardines de Chapultepec, Tijuana, Baja California, Mexico; C. Hermosillo, Colonia Rancho El Grande CP 22000, Tijuana, Baja California, Mexico; Pda. Mercurio, Colonia Puerta De Hierro CP 22330, Tijuana, Baja California, Mexico; Pda. Del Cobre 0, Colonia Puerto De Hierro CP 22000, Tijuana, Baja California, Mexico; c/o COMPLEJO TURISTICO OASIS S.A. DE C.V., Rosarito, Baja California, Mexico; c/o PLAYA MAR S.A. DE C.V., Tijuana, Baja California, Mexico; c/o INMOBILIARIA LA PROVINCIA S.A. DE C.V., Tijuana, Baja California, Mexico; c/o INMOBILIARIA ESTADO 29 S.A. DE C.V., Tijuana, Baja California, Mexico; c/o INMOBILIARIA TIJUANA COSTA S.A. DE C.V., Tijuana, Baja California, Mexico; DOB 25 May 1943; POB Mexicali, Baja California, Mexico; C.U.R.P. # HESU430525HBCRMR13 (Mexico); alt. C.U.R.P. # HESU430525HBCRMR05 (Mexico); alt. C.U.R.P. # HEXU430525HBCRXR07 (Mexico); Immigration No. A38839964 (United States) (individual) [SDNTK]

2. AGUIRRE RAMOS, Manuel Francisco, Paseo de los Heroes, Av. 95 B7, Colonia Rio Tijuana, Tijuana, Baja California, Mexico; Prol. Puerta de Hierro, Colonia Puerta de Hierro, Tijuana, Baja California, Mexico; Pda. Manuel M. Flores 2, Colonia Hipodromo Dos, Tijuana, Baja California, Mexico; c/o INMOBILIARIA ESPARTA S.A. DE C.V., Tijuana, Baja California, Mexico; c/o INMOBILIARIA LA PROVINCIA S.A. DE C.V., Tijuana, Baja California, Mexico; Calle 2A Barrio Juarez 2034-702, Colonia Zona Central, Tijuana, Baja California, Mexico; DOB 16 Mar 1969; POB Baja California, Mexico; C.U.R.P. # AURM690316HBCGMN05 (Mexico); R.F.C. # AURM-690316-97A (Mexico) (individual) [SDNTK]

3. URIBE URIBE, Miguel Angel, c/o INMOBILIARIA ESTADO 29 S.A. DE C.V., Tijuana, Baja California, Mexico; Calle Nevado de Toluca 845, Tijuana, Baja California, Mexico; c/o INMOBILIARIA LA PROVINCIA S.A. DE C.V., Tijuana, Baja California, Mexico; DOB 2 Aug 1957; POB Tijuana, Baja California, Mexico; C.U.R.P. # UIUM570802HBCRRG08 (Mexico) (individual) [SDNTK]

4. JIMENEZ PEREZ, Jose Julian Bruno, c/o INMOBILIARIA ESTADO 29 S.A. DE C.V., Tijuana, Baja California, Mexico; Calle Rio Bravo, Colonia Revolucion, Tijuana, Baja California, Mexico; Avenida Independencia, Colonia Zona Urbana Rio Tijuana, Tijuana, Baja California, Mexico; c/o INMOBILIARIA LA PROVINCIA S.A. DE C.V., Tijuana, Baja California, Mexico; DOB 19 Jun 1961; POB Ensenada, Baja California, Mexico; C.U.R.P. # JIPJ610619HBCMRL07 (Mexico) (individual) [SDNTK]

5. VALENCIA MARTINEZ, Alberto Alfredo Avenida I.T.R. 2207, Colonia Tecnologico, Tijuana, Baja California, Mexico; Calle Geiser 101, Colonia Colinas de Agua Caliente, Tijuana, Baja California, Mexico; Avenida Hipodromo 19, Colonia Hipodromo, Tijuana, Baja California, Mexico; Calle Lomas Altas 1480, Colonia Lomas de Agua Caliente, Tijuana, Baja California, Mexico; Calle Coronado 21760, Colonia Mesetas del Guaycura, Tijuana, Baja California, Mexico; Blvd. Fundadores 0, Colonia El Rubi, Tijuana, Baja California, Mexico; c/o INMOBILIARIA TIJUANA COSTA S.A. DE C.S., Tijuana, Baja California, Mexico; DOB 8 Apr 1949; POB Tijuana, Baja California, Mexico; C.U.R.P. # VAMA490408HBCLRL08 (Mexico); R.F.C. # VAMA-490408-C6A (Mexico) (individual) [SDNTK]

6. PELAYO MENDOZA, Franco Arturo, Calle Farallon 3206, Colonia Playas de Tijuana, Secc. Costa Hermosa, Tijuana, Baja California, Mexico; Paseo Playas de Tijuana 317, Tijuana, Baja California, Mexico; Paseo del Pedregal 3034, Colonia Playas de Tijuana, Secc. Costa Hermosa, Tijuana, Baja California, Mexico; Calle De La Luz 218, Colonia Playas de Tijuana, Secc. Costa Hermosa, Tijuana, Baja California, Mexico; Blvd. Insurgentes 16174-18-B, Colonia Los Alamos, Tijuana, Baja California, Mexico; Calle 16 de Septiembre 3-FA, Colonia Las Torres, Tijuana, Baja California, Mexico; Calle Juan Covarrubias, Colonia Los Altos, Tijuana, Baja California, Mexico; c/o INMOBILIARIA TIJUANA COSTA S.A. DE C.S., Tijuana, Baja California, Mexico; DOB 2 Feb 1953; POB Casimiro Castillo, Jalisco, Mexico (individual) [SDNTK]

7. CARVAJALINO, Jesus Emilio, (a.k.a. “PARIS, Andres”); DOB 15 Mar 1955; POB Bogota, Colombia; Passport AC192015 (Colombia); Cedula No. 3228737 (Colombia); (INDIVIDUAL) [SDNTK]

8. GARCIA MOLINA, Gener, (a.k.a. “GUTIERREZ, Jhon”; a.k.a. “HERNANDEZ, John”; a.k.a. “JHON 40”; a.k.a. “JOHN 40”; a.k.a. “JOHNNY 40”); DOB 23 Aug 1963; POB San Martin, Meta, Colombia; Cedula No. 17353242 (Colombia); (INDIVIDUAL) [SDNTK]

9. GRANDA ESCOBAR, Rodrigo, (a.k.a. “CAMPOS, Arturo”; a.k.a. “GALLOPINTO”; a.k.a. “GONZALEZ, Ricardo”); Avenida Victoria No. 36, Urbanizacion Bolivar La Victoria, Jose Felix Rivas, Estado de Aragua, Venezuela; DOB 9 Apr 1949; POB Frontino, Antioquia, Colombia; Cedula No. 171493523-4 (Ecuador); alt. Cedula No. 19104578 (Colombia); Electoral Registry No. 22942118 (Venezuela); Passport PO16104 (Colombia); (INDIVIDUAL) [SDNTK]

10. JUVENAL VELANDIA, Jose, (a.k.a. MUNOZ ORTIZ, Manuel Jesus; a.k.a. “IVAN RIOS”) DOB 19 Dec 1961; POB San Francisco, Putumayo, Colombia; Cedula No. 71613902 (Colombia) (INDIVIDUAL) [SDNTK]

11. LISANDRO LASCARRO, Jose, (a.k.a. MUNOZ LASCARRO, Felix Antonio; a.k.a. “PASTOR ALAPE”); DOB 4 Jun 1959; alt. DOB 1946; POB Puerto Berrio, Antioquia, Colombia; Cedula No. 71180715 (Colombia); alt. Cedula No. 3550075 (Colombia); (INDIVIDUAL) [SDNTK]

12. SERPA DIAZ, Alvaro Alfonso, (a.k.a. CERPA DIAZ, Alvaro Alfonso; a.k.a. CERPA DIAZ, Tiberio Antonio; a.k.a. SERPA DIAZ, Alvaro Enrique; a.k.a. “FELIPE RINCON”); DOB 28 Mar 1959; alt. DOB 9 Oct 1956; POB San Jacinto, Bolivar, Colombia; alt. POB Cali, Colombia; Cedula No. 6877656 (Colombia); (INDIVIDUAL) [SDNTK]

13. TOVAR PARRA, Ferney, (a.k.a. “DIEGO”; a.k.a. “FERCHO”); DOB 17 Nov 1966; POB Cartagena del Chaira, Caqueta, Colombia; Cedula No. 17640605 (Colombia); (INDIVIDUAL) [SDNTK]

14. ALVIS PATINO, Gentil, (a.k.a. LOPEZ, Angel Leopoldo; a.k.a. MARTINEZ VEGA, Juan Jose; a.k.a. PATINO ORTIZ, Alvis; a.k.a. “CHIGUIRO”; a.k.a. “GONZALEZ, Ruben”); DOB 4 Jun 1961; POB El Doncello, Caqueta, Colombia; Cedula No. 17669391 (Colombia); alt. Cedula No. 12059198 (Venezuela) (INDIVIDUAL) [SDNTK]

15. AGUILAR RAMIREZ, Gerardo Antonio, (a.k.a. “CESAR”); DOB 20 Sep 1962; POB Colombia; Cedula No. 16148998 (Colombia); Alt. Cedula No. 16447616 (Colombia); (INDIVIDUAL) [SDNTK]

In addition, OFAC has made a change to the following listings of two individuals previously designated pursuant to the Kingpin Act:

1. AGUIRRE GALINDO, Manuel, c/o Complejo Turistico Oasis, S.A. DE C.V., Rosarito, Baja California, Mexico; DOB 2 Nov 1950; R.F.C. AUGM-501102-PM3 (Mexico) (individual)[SDNTK]

2. GALINDO LEYVA, Esperanza, c/o Complejo Turistico Oasis, S.A. de C.V., Playas de Rosarito, Rosarito, Baja California, Mexico; DOB 16 Aug 1920; R.F.C. GALE-200816-6IA (Mexico) (individual) [SDNTK]

The listings now appear as follows:

1. AGUIRRE GALINDO, Manuel, c/o COMPLEJO TURISTICO OASIS S.A. DE C.V., Playas de Rosarito, Baja California, Mexico; c/o INMOBILIARIA ESPARTA S.A. DE C.V., Tijuana, Baja California, Mexico; DOB 02 Nov 1950; POB Tijuana, Baja California, Mexico; R.F.C. # AUGM-501102-PM3 (Mexico) (individual)

2. GALINDO LEYVA, Esperanza, c/o COMPLEJO TURISTICO OASIS, S.A. de C.V., Playas de Rosarito, Rosarito, Baja California, Mexico; 536 Huerto Place, Chula Vista, CA 91910; 950 Norella Street, Chula Vista, CA 91910; c/o PLAYA MAR S.A. DE C.V., Tijuana, Baja California, Mexico; c/o INMOBILIARIA LA PROVINCIA S.A. DE C.V., Tijuana, Baja California, Mexico; DOB 16 Aug 1920; POB San Ignacio, Sinaloa, Mexico; Passport 99020017901 (Mexico); R.F.C. # GALE-200816-6IA (Mexico); alt. R.F.C. # GALE-241004-61A (Mexico) (individual) [SDNTK]

Dated: September 28, 2006.
Adam J. Szubin,
Director, Office of Foreign Assets Control.

[FR Doc. E6-16424 Filed 10-3-06; 8:45 am]

BILLING CODE 4811-37-P